Title 3—

The President

Proclamation 8992 of May 31, 2013

African-American Music Appreciation Month, 2013

By the President of the United States of America

A Proclamation

Since our Nation's founding, people from every walk of life have set out to capture the American experience not just in poetry or prose, but also in the timeless quality of song. When the outcome of a revolution hung in the balance, drums and fifes filled brave patriots with the strength to carry on. When slavery kept millions in bondage, spirituals gave voice to a dream of true and lasting freedom. Through every generation, music has reflected and renewed our national conversation, bringing us together and reminding us of the humanity we share.

African Americans have always had a hand in shaping the American sound. From gospel and Motown to bebop and blues, their story is bound up in the music they made—songs of hurt and hardship, yearning and hope, and struggle for a better day. Those feelings speak to something common in all of us. With passion and creativity, African-American performers have done more than reinvent the musical styles they helped define; they have channeled their music into making change and advancing justice, from radio booths to the stage to our city streets.

That story is still unfolding today. We see it in the young poet putting his words to a beat; the conservatory student perfecting her technique; the jazz musician making old melodies new again. During African-American Music Appreciation Month, let us celebrate these artists and the generations who inspired them, and let us reflect on our heritage as a Nation forever enriched by the power of song.

NOW, THEREFORE, I, BARACK OBAMA, President of the United States of America, by virtue of the authority vested in me by the Constitution and the laws of the United States, do hereby proclaim June 2013 as African-American Music Appreciation Month. I call upon public officials, educators, and all the people of the United States to observe this month with appropriate activities and programs that raise awareness and foster appreciation of music that is composed, arranged, or performed by African Americans.

IN WITNESS WHEREOF, I have hereunto set my hand this thirty-first day of May, in the year of our Lord two thousand thirteen, and of the Independence of the United States of America the two hundred and thirty-seventh.

[FR Doc. 2013-13643

Filed 6-5-13; 11:15 am]

Billing code 3295-F3